DEPARTMENT OF DEFENSE

Defense Acquisition Regulations System

48 CFR Part 225

Defense Federal Acquisition Regulation Supplement; Technical Amendments

AGENCY: Defense Acquisition Regulations System, Department of Defense (DoD).

ACTION: Final rule.

SUMMARY: DoD is making technical amendment to the Defense Federal Acquisition Regulation Supplement (DFARS) to insert a hyperlink and direct contracting officers to the DFARS Procedures, Guidance, and Information.

DATES: Effective date: July 10, 2013.

FOR FURTHER INFORMATION CONTACT: Mr. Manuel Quinones, Defense Acquisition Regulations System, OUSD(AT&L)DPAP(DARS), Room 3B855, 3060 Defense Pentagon, Washington, DC 20301-3060. Telephone 571-372-6088; facsimile 571-372-6094.

SUPPLEMENTARY INFORMATION: This final rule amends the DFARS at 225.7703-3 to add a hyperlink and to direct contracting officers to PGI 225.7703-3 for additional guidance on acquisitions in support of USCENTCOM.

List of Subjects in 48 CFR Part 225

Government procurement.

Manuel Quinones,
Editor, Defense Acquisition Regulations System.

Therefore, 48 CFR part 225 is amended as follows:

1. The authority citation for 48 CFR part 225 continues to read as follows:

Authority: 41 U.S.C. 1303 and 48 CFR chapter 1.

PART 225—FOREIGN ACQUISITION

2. Amend section 225.7703-3 by adding paragraph (c) to read as follows:

225.7703-3 Evaluating offers.

* * * * *

(c) For acquisitions in support of USCENTCOM, see PGI 225.7703-3.

[FR Doc. 2013-16565 Filed 7-9-13; 8:45 am]

BILLING CODE 5001-06-P